DEPARTMENT OF COMMERCE

National Oceanic and Atmospheric Administration

RIN 0648-XC643

North Pacific Fishery Management Council (NPFMC); Public Meetings

AGENCY: National Marine Fisheries Service (NMFS), National Oceanic and Atmospheric Administration (NOAA), Commerce.

ACTION: Notice of a public meeting.

SUMMARY: The North Pacific Fishery Management Council's (Council) Gulf of Alaska (GOA) and Bering Sea/Aleutian Islands (BSAI) Groundfish Plan Teams will meet by teleconference and webcast at https://npfmc.webex.com to allow the public to watch and hear presentations.

DATES: The meeting will be held on May 13, 2013 at 2:30 (PDT).

ADDRESSES: Council address: North Pacific Fishery Management Council, 605 W. 4th Ave., Suite 306, Anchorage, AK 99501-2252.

FOR FURTHER INFORMATION CONTACT: Jane DiCosimo or Diana Stram, NPFMC; telephone: (907) 271-2809.

SUPPLEMENTARY INFORMATION: The Groundfish Plan Teams will convene jointly to recommend Pacific cod models for inclusion in the 2013 Pacific cod stock assessments for the GOA and BSAI. The stock assessments are the bases for the selection of Pacific cod harvest specifications for the GOA and BSAI for 2014/15.

Meeting Number: 579 324 701.

Meeting Password: cod123.

To join the online meeting (now from mobile devices!)

1. Go to https://akfsc.webex.com/akfsc/j.php?ED=225073312&UID=1393421722&PW=NOGI0NzlkNDky&RT=MiM0

2. If requested, enter your name and email address.

3. If a password is required, enter the meeting password: cod123

4. Click “Join”.

To join the audio conference only

Teleconference number: 1-877-953-5415.

Participant: 1709502.

Special Accommodations

The meeting is physically accessible to people with disabilities. Requests for sign language interpretation or other auxiliary aids should be directed to Gail Bendixen, (907) 271-2809, at least 5 working days prior to the meeting date.

Dated: April 23, 2013.
Tracey L. Thompson,
Acting Deputy Director, Office of Sustainable Fisheries, National Marine Fisheries Service.

[FR Doc. 2013-09957 Filed 4-26-13; 8:45 am]

BILLING CODE 3510-22-P